DEPARTMENT OF THE INTERIOR

Bureau of Land Management

[ES-032-4-1430-ES]

Realty Action; Recreation and Public Purpose Act Classification; Benzie County, MI

AGENCY: Bureau of Land Management, Interior.

ACTION: Notice of realty action; Recreation and Public Purposes Act (R&PP) Classification; Michigan.

SUMMARY: The following public lands near the community of Frankfort in Benzie County, Michigan have been examined and found suitable for classification for lease or conveyance to Benzie County, under the provisions of the Recreation and Public Purposes (R&PP) Act of 1926, as amended (43 U.S.C. 869 et seq.). Therefore, in accordance with Section 7 of the Act of June 28, 1934, as amended (43 U.S.C. 315f) and EO 6964, the following described lands are hereby classified as suitable for disposal under the provisions of the R&PP Act of 1926, as amended (43 U.S.C. 869 et seq.) and, accordingly, opened for only that purpose.

Michigan Meridian

T. 26 N., R. 16 W.

Lot 10 and Lot 12, Section 4.

The area described contains 4.05 acres in Benzie County

Benzie County proposes to manage the lands as a historic site. This action classifies the lands identified above for disposal through the R&PP Act of 1926 (43 U.S.C. 869 et seq.) to protect the historic lighthouse, lighthouse related structures and the surrounding lands. The subject land was identified in the Michigan Resource Management Plan Amendment, approved June 30, 1997, as not needed for Federal purposes and having potential for disposal to protect the historic structures and surrounding lands. Lease or conveyance of the land for recreational and public purpose use would be in the public interest. Detailed information concerning this action is available for review at the office of the Bureau of Land Management, Milwaukee Field Office, Wisconsin.

FOR FURTHER INFORMATION CONTACT: Paul J. Salvatore, Realty Specialist, Bureau of Land Management (BLM), Milwaukee Field Office, 626 East Wisconsin Avenue, Suite 200, Milwaukee, Wisconsin 53202, (414) 297-4413.

SUPPLEMENTARY INFORMATION: Pursuant to Executive Order dated July 24, 1875, a parcel of public land totaling 9.52 acres located in Benzie County was reserved for lighthouse purposes. The parcel contained the Point Betsie Light Station located on the eastern shore of Lake Michigan near the city of Frankfort. The original parcel has subsequently been resurveyed and divided into three (3) separate lots: Lot 10—1.70 acres, Lot 11—3.52 acres and Lot 12—2.35 acres.

The Department of Transportation, United States Coast Guard, submitted a Notice of Intent (NOI) to relinquish custody, accountability and control of Lot 10 on January 6, 1984. A second NOI to relinquish custody, accountability and control was submitted for Lot 12 on August 12, 1998. The BLM has recommended that Lot 10 and Lot 12 be determined suitable for return to their former status as public lands, such determination to be made by the Secretary of the Interior and accomplished by the issuance of a public land order partially revoking the Executive Order. Public land order 7249 dated March 18, 1997, returned Lot 10 to its former status as public land. A proposed public land order to return Lot 12 to its former status as public land currently is pending and awaiting action within the Department.

Benzie County has applied for patent to the land under the R&PP Act of 1926.

The lease/patent when issued, will be subject to the following terms, conditions and reservations:

1. Provisions of the Recreation and Public Purposes Act of 1926, as amended and to all applicable regulations of the Secretary of the Interior.

2. Valid existing rights.

3. All minerals are reserved to the United States, together with the right to prospect for, mine and remove the minerals.

4. Terms and conditions identified through the site-specific environmental analysis.

5. Any other rights or reservations that the authorized officer deems appropriate to ensure public access and proper management of Federal lands and interest therein.

Upon publication of this notice in the Federal Register, the above described lands will be segregated from all forms of disposal or appropriation under the public land laws, except for lease or conveyance under the Recreation and Public Purposes Act and leasing under the mineral leasing laws. For a period of 45 days after issuance of this notice, interested parties may submit comments regarding the proposed conveyance or classification of the lands to the Field Manager, Milwaukee Field Office, Bureau of Land Management, 626 East Wisconsin Avenue, Suite 200, Milwaukee, Wisconsin 53202.

Classification Comments: Interested parties may submit comments involving the suitability of the land for R&PP Act classification, and particularly, whether the land is physically suited for management as a historic site, whether the use will maximize future use or uses of the land, whether the use is consistent with local planning and zoning, or if the use is consistent with state and Federal programs.

Application Comments: Interested parties may submit comments regarding the specific use proposed in the application, the development plan, the management plan, whether the BLM followed proper administrative procedures in reaching the decision, or any other factor not directly related to the suitability of the land for management as a historic site.

Any adverse comments will be evaluated by the State Director who may sustain, vacate, or modify this realty action. In the absence of any adverse comments, the classification will become effective 60 days from the date of publication of this notice in the Federal Register.

Dated: January 20, 2004.
Chris E. Hanson,
Acting Milwaukee Field Manager.

[FR Doc. 04-5097 Filed 3-5-04; 8:45 am]

BILLING CODE 4310-PN-P